DEPARTMENT OF THE INTERIOR

Fish and Wildlife Service

[FWS-R5-ES-2013-0090; 50120-1112-0000-F2]

Early Scoping for Proposed Application for Incidental Take Permit and Habitat Conservation Plan; Pennsylvania Game Commission and Pennsylvania Department of Conservation and Natural Resources

AGENCY: Fish and Wildlife Service, Interior.

ACTION: Notice of initiation of scoping.

SUMMARY: Pursuant to the Endangered Species Act (ESA) and the National Environmental Policy Act (NEPA), we, the U.S. Fish and Wildlife Service (Service), announce our intent to prepare a NEPA document for a pending Incidental Take Permit (ITP) application and associated draft habitat conservation plan (HCP) from the Pennsylvania Game Commission (PGC) and Pennsylvania Department of Conservation and Natural Resources (DCNR) for forestry activities on State lands that provide potential habitat for the federally listed endangered Indiana bat (Myotis sodalis) and the northern long-eared bat (Myotis septentrionalis). Northern long-eared bats have recently been proposed for listing as endangered under the ESA. Forestry operations on these lands have the potential to incidentally take Indiana bats and northern long-eared bats and their habitat. Therefore, PGC and DCNR are developing an ITP application and HCP to address these activities.

In advance of receiving the ITP application for this project, the Service is providing this notice to request information from other agencies, tribes, and the public on the scope of the NEPA review and issues to consider in the NEPA analysis and in development of the HCP. We are also using this opportunity to seek comments on the appropriate level of NEPA review—whether an environmental assessment (EA) or an environmental impact statement (EIS) would be most appropriate, based on potential effects to the human environment.

DATES: We will accept comments received or postmarked on or before December 12, 2013. Comments submitted electronically using the Federal eRulemaking Portal (see ADDRESSES) must be received by 11:59 p.m. Eastern Time on the closing date.

ADDRESSES: You may submit written comments by one of the following methods:

Electronically: Go to the Federal eRulemaking Portal Web site at: http://www.regulations.gov. In the Search box, enter FWS-R5-ES-2013-0090, which is the docket number for this notice. Click on the appropriate link to locate this document and submit a comment.

By hard copy: Submit by U.S. mail or hand-delivery to Public Comments Processing, Attn: FWS-R5-ES-2013-0090, Division of Policy and Directives Management; U.S. Fish and Wildlife Service; 4401 N. Fairfax Drive, MS 2042-PDM; Arlington, VA 22203.

We request that you send comments by only the methods described above. We will post all information received on the Web site at: http://www.regulations.gov. This generally means that we will post any personal information you provide us (see the Public Comments section below for more information).

FOR FURTHER INFORMATION CONTACT: Pamela R. Shellenberger, by mail at U.S. Fish and Wildlife Service, 315 South Allen Street, Suite 322, State College, PA 16801, or by telephone at 814-234-4090, extension 241.

SUPPLEMENTARY INFORMATION: We announce our intent to prepare a NEPA document for a pending ITP application and associated draft HCP from the PGC and DCNR for forestry activities on approximately 3.9 million acres of State lands. PGC manages 1.4 million acres of State Game Lands, and DCNR manages 2.2 million acres of State Forests and 295,000 acres of State Parks. These predominantly forested lands provide potential foraging, roosting, maternity colony, and fall swarming habitat for all bat species that occur in Pennsylvania, including the federally listed endangered Indiana bat and the northern long-eared bat. Northern long-eared bats have recently been proposed for listing as endangered under the ESA. Forestry operations on these lands have the potential to incidentally take Indiana bats and northern long-eared bats and their habitat. Therefore, PGC and DCNR are developing an ITP application and HCP to address these activities.

In advance of receiving the ITP application for this project, the Service is providing this notice to request information from other agencies, tribes, and the public on the scope of the NEPA review and issues to consider in the NEPA analysis and in development of the HCP. We are also using this opportunity to seek comments on the appropriate level of NEPA review—whether an EA or an EIS would be most appropriate, based on potential effects to the human environment.

Request for Information

We request data, comments, information, and suggestions from the public, other concerned governmental agencies, the scientific community, Tribes, industry, or any other interested party on this notice. We will consider all comments we receive in complying with the requirements of NEPA and in the development of the HCP and ITP.

We seek comments particularly related to:

(1) Information concerning the range, distribution, population size, and population trends of Indiana bats, northern long-eared bats, and other federally listed species in Pennsylvania;

(2) Additional biological information concerning Indiana bats, northern long-eared bats, and other federally listed species that occur in Pennsylvania that could be affected by proposed covered activities;

(3) Relevant data and information concerning timber management practices and bat interactions;

(4) Current or planned activities in the project planning area and their possible impacts on Indiana bats, northern long-eared bats, and other federally listed species in Pennsylvania;

(5) The presence of facilities within the project planning area that are eligible to be listed on the National Register of Historic Places, or whether other historical, archeological, or traditional cultural properties may be present;

(6) The appropriate level of NEPA review, specifically whether an EA or an EIS would be most appropriate based on potential effects to the human environment; and

(7) Any other environmental issues that we should consider with regard to the project planning area and potential ITP issuance.

You may submit your comments and materials considering this notice by one of the methods listed in the ADDRESSES section.

Background

Indiana bats are listed as an endangered species under the ESA. The population decline of this species has historically been attributed to habitat loss and degradation of both winter hibernation habitat and summer roosting habitat, human disturbance during hibernation, and possibly pesticides. A recent new threat to Indiana bats is White-nose Syndrome (WNS), a disease caused by a fungus (Pseudogymnoascus destructans, previously classified as Geomyces destructans) that invades the skin of bats. The fungus causes ulcers that alter hibernation arousal patterns, which can cause emaciation. WNS is resulting in significant population declines in some parts of the species' range, including the northeastern and southeastern United States.

The range of the Indiana bat includes much of the eastern United States, including Pennsylvania. Winter habitat for Indiana bat includes caves and mines that support high humidity and cool-but-stable temperatures. In the summer, Indiana bats roost in trees (dead, dying, or alive) with exfoliating bark, cracks, crevices, and/or hollows. During summer, males roost alone or in small groups, while females and their offspring can roost in larger groups. Indiana bats forage for insects in and along the edges of forested areas and wooded stream corridors.

Northern long-eared bats have recently been proposed for listing as endangered under the ESA. WNS is the predominant threat to the species, though other threats may include impacts to hibernacula, summer habitat, and disturbance of hibernating bats. Northern long-eared bats have been abundant in the eastern United States and are often captured in summer mist nets surveys and detected during acoustic surveys. Northern long-eared bats are known to frequent forested habitats throughout Pennsylvania. Similar to Indiana bats, northern long-eared bats generally hibernate in caves and mines during the winter. During the summer, the bats roost in live trees and snags, though are also known to use human made structures such as barns, sheds, and bat boxes.

Comprehensive forest management strategies on Pennsylvania State lands create wildlife habitat and enhance forest health and diversity, while generating revenues from recreation and timber harvest that fund resource management on these lands. The ability of both PGC and DCNR to manage these properties in accordance with State law depends on these forest management strategies.

The Federal action that will be analyzed through NEPA will be the potential issuance of an ITP to allow incidental take of Indiana bats, northern long-eared bats, and other federally listed species from forest management activities that will be described in the HCP. The HCP will incorporate avoidance, minimization, mitigation, monitoring, and reporting measures aimed at addressing the impact of the covered activities to Indiana bats and northern long-eared bats. The project planning area for the HCP is the 3.9 million acres of largely forested lands in Pennsylvania owned and managed by PGC and DCNR. The covered forest management activities in the HCP are anticipated to be as follows: Timber harvesting, installation of deer fencing, cutting and collecting of firewood, construction and maintenance of roads and trails, and use of prescribed fire. The PGC and DCNR do not anticipate that other forest management activities in the planning area will result in incidental take of Indiana bats, northern long-eared bats, or their habitat. In addition, they do not anticipate that other forest management activities in the planning area will result in incidental take of any other federally listed species. Potential minimization measures may include, but are not limited to, protection of roost trees and surrounding habitat, setback distances from known roost trees, mapping and avoidance of foraging areas, protection and enhancement of hibernacula, and protection and enhancement of Indiana bat and northern long-eared bat roosting and foraging habitat. The duration of the ITP will be 30 years.

The Service has not made any decision with regard to the appropriate level of NEPA analysis (i.e., EA or EIS), or developed any NEPA alternatives to the proposed Federal action (i.e., issuance of an ITP conditioned on implementation of the HCP). The NEPA analysis will assess the direct, indirect, and cumulative impacts of the proposed Federal action on the human environment, comprehensively interpreted to include the natural and physical environment and the relationship of people with that environment. It will also analyze several alternatives to the proposed Federal action, to include no action and other reasonable courses of action (potentially including minimization and mitigation measures not considered in the proposed action). Relevant information provided in response to this notice will aid in developing the draft HCP and NEPA analysis.

Next Steps

In this phase of the project, we are seeking information to assist development of the NEPA analysis and the HCP, and to inform what level of environmental analysis would be necessary for project implementation. We will then develop a draft NEPA document based on the ITP application, draft HCP, any associated documents, and public comments received through this early scoping effort. The NEPA process will vary somewhat, depending on whether the project requires an EA or an EIS. We may solicit additional public, agency, and Tribal input to identify the nature and scope of the environmental issues that should be addressed during NEPA review, following appropriate public notice. We will then publish a notice of availability for the draft NEPA document and draft HCP and seek additional public comment before completing our final analysis to determine whether to issue an ITP.

Public Comments

The Service invites the public to provide comments that will assist our NEPA analysis during this 30-day public comment period (see DATES). You may submit comments by one of the methods shown under ADDRESSES.

Public Availability of Comments

We will post all public comments and information received electronically or via hardcopy on our Web site at: http://regulations.gov. All comments received, including names and addresses, will become part of the administrative record and will be available to the public. Before including your address, phone number, electronic mail address, or other personal identifying information in your comment, you should be aware that your entire comment—including your personal identifying information—will be publicly available. If you submit a hardcopy comment that includes personal identifying information, you may request at the top of your document that we withhold this information from public review. However, we cannot guarantee that we will be able to do so.

Authority

This notice is provided pursuant to NEPA regulations (40 CFR 1501.7 and 1508.22).

Dated: November 4, 2013.
Spencer Simon,
Acting Assistant Regional Director, Ecological Services, Northeast Region.

[FR Doc. 2013-26950 Filed 11-8-13; 8:45 am]

BILLING CODE 4310-55-P